POSTAL SERVICE

39 CFR Part 111

New Pallet Preparation Standards for Periodicals

AGENCY: Postal Service™.

ACTION: Proposed rule.

SUMMARY: The Postal Service is proposing to revise the Mailing Standards of the United States Postal Service, Domestic Mail Manual (DMM®), to align pallet preparation standards for Periodicals with those currently required for Periodicals prepared in sacks and similar containers.

DATES: Submit comments on or before July 30, 2012.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only between the hours of 9 a.m. and 4 p.m., Monday through Friday. Call 1-202-268-2906 in advance for an appointment. Email comments, containing the name and address of the commenter, may be sent to: MailingStandards@usps.gov, with a subject line of “Periodicals Pallet Standards.” Faxed comments are not accepted.

FOR FURTHER INFORMATION CONTACT: Craig Vance at 202-268-7595, or Kevin Gunther at 202-268-7208.

SUPPLEMENTARY INFORMATION: Prior to January 22, 2012, mailers were required to prepare bundles of flat-size Periodicals in mixed area distribution center (ADC) sacks (or similar containers), labeled according to labeling list L009; and in origin mixed ADC (OMX) sacks (or similar containers), labeled according to labeling list L201. These standards assured that the OMX and the mixed ADC separations were always made, and the sacks that were prepared could then be presented directly for acceptance or placed on pallets in accordance with DMM 705.8.10.2.

The separation of mail destinating within the “OMX” surface reach of the mailer's plant (or entry point) from the remaining mixed ADC mail is crucial for maintaining acceptable service performance, for the benefit of both Periodicals customers and USPS® processing operations.

On January 22, 2012, the Postal Service revised DMM 705.8.10.2 to allow mailers to place bundles of flat-size Periodicals directly onto mixed area distribution center (ADC) and origin mixed ADC (OMX) pallets, but retained the existing language describing these pallet levels as optional. The long-standing language that required the mixed ADC pallet to be labeled in accordance with labeling list L004 was also retained. As a result of this change, some mailers have discontinued the practice of making the mixed ADC and OMX separations when placing bundles of flat-size Periodicals directly on pallets.

It was not the intent of the January 22, 2012 revision to eliminate the requirement to perform the OMX and mixed ADC separations. The Postal Service therefore proposes to revise DMM 705.8.10.2 to provide the option for mailers to prepare both the OMX and mixed ADC pallet at no minimum volume threshold. The Postal Service proposes to require the preparation of both pallets at volumes of 100 pounds or more, and require sacking of these separations if the mailer elects not to form either pallet level below the 100-pound threshold. The Postal Service also proposes that the mixed ADC pallet will be prepared in accordance with labeling list L009 instead of L004, as is currently required. If these new standards are adopted, they will be effective January 28, 2013.

Although these changes are intended to be effective January 28, 2013, to provide for the most expeditious processing of their mixed ADC and OMX Periodicals mailpieces in USPS® networks, mailers are strongly encouraged to begin using these new standards immediately.

Although the Postal Service is exempted by 39 U.S.C. 410(a) from the notice and comment requirements of the Administrative Procedure Act (5 U.S.C 553(b), (c)), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

700 Special Standards

* * * * *

705 Advanced Preparation and Special Postage Payment Systems

* * * * *

8.0 Preparing Pallets

* * * * *

8.10 Pallet Presort and Labeling

* * * * *

8.10.2 Periodicals—Bundles, Sacks, or Trays

* * * * *

[Revise the introductory paragraph of 8.10.2j as follows:]

j. Origin Mixed ADC (OMX), optional for sacks and trays; allowed with no minimum and required at 100 pounds for bundles of flats. Bundles of flats totaling less than 100 pounds in weight must be sacked if not palletized. Pallet may contain carrier route, automation price, and presorted price mail. Labeling:

* * * * *

[Revise the introductory paragraph and line 1 of 8.10.2k as follows:]

k. Mixed ADC, optional for sacks and trays; allowed with no minimum and required at 100 pounds for bundles of flats. Bundles of flats totaling less than 100 pounds in weight must be sacked if not palletized. Pallet may contain carrier route, automation price, or presorted price mail. Pallets must not contain sacks, trays or bundles that should be properly placed on the origin mixed ADC (OMX) pallet. Labeling:

1. Line 1: “MXD” followed by the city, state, and ZIP Code information for facility serving 3-digit ZIP Code prefix of entry Post Office as shown in L009, Column A.

* * * * *

We will publish an appropriate amendment to 39 CFR part 111 to reflect these changes if the proposal is adopted.

Stanley F. Mires,
Attorney, Legal Policy & Legislative Advice.

[FR Doc. 2012-15927 Filed 6-28-12; 8:45 am]

BILLING CODE 7710-12-P